FEDERAL COMMUNICATIONS COMMISSION

47 CFR Part 73

[DA No. 00-553, MM Docket No. 00-43, RM-9833]

Radio Broadcasting Services; Ebro, FL

AGENCY: Federal Communications Commission.

ACTION: Proposed rule.

SUMMARY: This document requests comments on a petition for rule making filed on behalf of Washington County Communications requesting the allotment of Channel 236A at Ebro, Florida, as the community's first local broadcast service. Channel 236A can be allotted to Ebro with a site restriction 3.3 kilometers (2.0 miles) northwest of the community at coordinates 30-28-15 and 85-53-45.

DATES: Comments must be filed on or before May 1, 2000, and reply comments on or before May 16, 2000.

ADDRESSES: Federal Communications Commission, Washington, DC 20554. In addition to filing comments with the FCC, interested parties should serve the petitioner's counsel, as follows: Bruce Eisen, Kaye, Scholer, Fierman, Hays & Handler, LLP, 901 15th Street, NW, Suite 901, Washington, DC 20005.

FOR FURTHER INFORMATION CONTACT: Kathleen Scheuerle, Mass Media Bureau, (202) 418-2180.

SUPPLEMENTARY INFORMATION: This is a summary of the Commission's Notice of Proposed Rule Making, MM Docket No. 00-43, adopted March 1, 2000, and released March 10, 2000. The full text of this Commission decision is available for inspection and copying during normal business hours in the Commission's Reference Center, Washington, DC. The complete text of this decision may also be purchased from the Commission's copy contractors, International Transcription Services, Inc., 1231 20th Street, NW, Washington, DC 20036, (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-7388 Filed 3-24-00; 8:45 am]

BILLING CODE 6712-01-P